DEPARTMENT OF TRANSPORTATION

Federal Aviation Administration

Notice of Intent To Rule on Request To Release Airport Property at the Dallas/Fort Worth International Airport, DFW Airport, TX

AGENCY: Federal Aviation Administration (FAA), DOT.

ACTION: Notice of Request of Release for Permanent Easement of Airport Property.

SUMMARY: The FAA proposes to rule and invite public comment on the request for permanent easement at the Dallas/Fort Worth International Airport under the provisions of Section 125 of the Wendell H. Ford Aviation Investment Reform Act for the 21st Century (AIR 21).

DATES: Comments must be received on or before March 11, 2013.

ADDRESSES: Comments on this application may be mailed or delivered to the FAA at the following address: Mr. Mike Nicely, Manager, Federal Aviation Administration, Southwest Region, Airports Division, Texas Airports Development Office, ASW-650, Fort Worth, Texas 76137-0650.

In addition, one copy of any comments submitted to the FAA must be mailed or delivered to Mr. Jeff Fegan, Chief Executive Office, at the following address: Dallas/Fort Worth International Airport, Executive Office, P.O. Box 619428, DFW Airport, Texas 75261.

FOR FURTHER INFORMATION CONTACT: Mr. Rodney Clark, Senior Program Manager, Federal Aviation Administration, Texas Airports Development Office, ASW-651, 2601 Meacham Boulevard, Fort Worth, Texas 76137-0650, Telephone: (817) 222-5659, email: Rodney.Clark@faa.gov, fax: (817) 222-5989.

The request to release property may be reviewed in person at this same location.

SUPPLEMENTARY INFORMATION: The FAA invites public comment on the request to release property at the Dallas/Fort Worth International Airport under the provisions of the AIR 21. On October 1, 2012, the FAA determined that the request for permanent easement at Dallas/Fort Worth International Airport, submitted by the Airport, met the procedural requirements of the Federal Aviation Regulations, Part 155. The FAA may approve the request, in whole or in part, no later than March 31, 2013.

The following is a brief overview of the request:

The Dallas/Fort Worth International Airport requests the release for permanent easement of 20.9048 acres of non-aeronautical airport property. The land was acquired by the Cities of Dallas and Fort Worth for use as an airport. The funds generated by the release will be used to improve public access to the Airport.

Any person may inspect the request in person at the FAA office listed above under FOR FURTHER INFORMATION CONTACT.

In addition, any person may, upon request, inspect the application, notice and other documents relevant to the application in person at the Dallas/Fort Worth International Airport, telephone number (972) 973-5200.

Issued in Fort Worth, Texas on January 31, 2013.
Kelvin L. Solco,
Manager, Airports Division.

[FR Doc. 2013-02737 Filed 2-6-13; 8:45 am]

BILLING CODE P